DEPARTMENT OF JUSTICE

Notice of Lodging Consent Decree Under the Clean Air Act

Pursuant to 28 CFR § 50.7, notice is hereby given that, on September 24, 2009, a proposed Consent Decree in United States v. Pacific Gas & Electric Company [“PG&E”], Civil Action No. 09-4503 (N.D. Cal.), was lodged with the United States District Court for the Northern District of California. The Consent Decree addresses an alleged violation of the Clean Air Act, 42 U.S.C. 7401-7671 et seq., which occurred at the Gateway Generating Station, a natural gas fired power plant located near Antioch, California. The alleged violation arises from the construction of the plant by PG&E allegedly without an appropriate permit in violation of the Prevention of Significant Deterioration provisions of the Clean Air Act, 42 U.S.C. 7475, and without installing and applying best available control technology at the plant to control emissions of various air pollutants.

The proposed Consent Decree would resolve the claim alleged in the Complaint filed in this matter in exchange for PG&E's commitment to perform injunctive relief including: (1) Achieving more stringent limits for emissions of nitrogen oxides (NOX) and carbon monoxide; and (2) installing and operating two computer software programs that are designed to limit the number of start-ups and shut-downs that the Gateway plant will experience and to further reduce NOX emissions. The proposed Consent Decree also requires PG&E to pay a $20,000 civil penalty.

The Department of Justice will receive comments relating to the proposed Consent Decree for a period of thirty (30) days from the date of this publication. Comments should be addressed to the Assistant Attorney General, Environment and Natural Resources Division, and mailed either electronically to pubcomment-ees.enrd@usdoj.gov or in hard copy to the United States Department of Justice, P.O. Box 7611, Ben Franklin Station, Washington, DC 20044-7611. Comments should refer to United States v. Pacific Gas & Electric Company, Civil Action No. 09-4503 (N.D. Cal.) and D.J. Ref. No. 90-5-2-1-09753.

The Consent Decree may be examined at: (1) The offices of the United States Department of Justice, 301 Howard Street, San Francisco, California 94105; and (2) the offices of the U.S. Environmental Protection Agency, Region 9, 75 Hawthorne St., San Francisco, CA 94105. During the public comment period, the Consent Decree may also be examined on the following Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (21 pages at 25 cents per page reproduction costs) payable to the U.S. Treasury.

Maureen M. Katz,
Assistant Chief, Environmental Enforcement Section, Environment and Natural Resources Division.

[FR Doc. E9-23923 Filed 10-2-09; 8:45 am]

BILLING CODE 4410-15-P